DEPARTMENT OF ENERGY

Office of Science; Fusion Energy Sciences Advisory Committee

AGENCY: Department of Energy.

ACTION: Notice of open meeting.

SUMMARY: This notice announces a meeting of the Fusion Energy Sciences Advisory Committee. The Federal Advisory Committee Act (Pub. L. 92-463, 86 Stat. 770) requires that public notice of these meetings be announced in the Federal Register.

DATES: Monday, March 29, 2004, 9 a.m. to 6 p.m.; Tuesday, March 30, 2004, 9 a.m. to 12 noon.

ADDRESSES: The Marriott Gaithersburg Washingtonian Center, 9751 Washingtonian Boulevard, Gaithersburg, Maryland 20878, USA.

FOR FURTHER INFORMATION CONTACT: Albert L. Opdenaker, Office of Fusion Energy Sciences, U.S. Department of Energy, 1000 Independence Avenue, SW., Washington, DC 20585-1290; telephone: 301-903-4927.

SUPPLEMENTARY INFORMATION: Purpose of the Meeting: The purpose of this meeting is to complete work on the charges dealing with Workforce Development, the review of Inertial Fusion Energy program, and the Committee of Visitors' review of the theory and computations program. A preliminary report from the Panel dealing with the process for setting program priorities is also scheduled.

Tentative Agenda:

Monday, March 29, 2004.

• Office of Science Perspective;

• Office of Fusion Energy Sciences Perspective;

• Final report from the Workforce Development Panel;

• Final report from the Committee of Visitors—Theory and Computations Program;

• Final report from the Inertial Fusion Energy Review Panel;

• Public comments.

Tuesday, March 30, 2004.

• Preliminary report from the Panel Dealing with the Process for Setting Program Priorities;

• ITER Project Status.

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room, IE-190, Forrestal Building, 1000 Independence Avenue, SW., Washington, DC, between 9 a.m. and 4 p.m., Monday through Friday, except Federal holidays.

Issued in Washington, DC on February 18, 2004.
Rachel M. Samuel,
Deputy Advisory Committee Management Officer.

[FR Doc. 04-3818 Filed 2-20-04; 8:45 am]

BILLING CODE 6450-01-P